DEPARTMENT OF HOMELAND SECURITY

U.S. Customs and Border Protection

[Docket No. USCBP-2022-0017]

Request for Information on U.S. Customs and Border Protection Processes, Programs, Regulations, Collections of Information and Policies Pursuant to 19 CFR Part I

AGENCY: U.S. Customs and Border Protection, Department of Homeland Security.

ACTION: Request for information.

SUMMARY: U.S. Customs and Border Protection (CBP) is issuing this Request for Information (RFI) to receive input from the public on specific CBP processes, programs, regulations, collections of information, and policies for the agency to consider modifying, streamlining, expanding, or repealing in light of recent executive orders. This RFI is intended to ensure that CBP processes, programs, regulations, collections of information, and policies issued under CBP's regulations, authority contain necessary, properly tailored, and up-to-date requirements that effectively achieve CBP's mission in a manner that furthers the goals of advancing equity for all, including those in underserved communities; protecting public health and the environment; restoring science; and bolstering resilience from the effects of climate change, particularly for those disproportionately affected by climate change, and promoting and protecting our public health and the environment by advancing and prioritizing environmental justice.

DATES: Written comments are requested on or before June 21, 2022. Comments received after this date will be considered for future advisory, communicative, and outreach efforts to the extent practicable.

ADDRESSES: Please submit any comments, identified by Docket No. USCBP-2022-0017, by one of the following methods:

• Federal eRulemaking Portal: https://www.regulations.gov. Follow the instructions for submitting comments via Docket No. USCBP-2022-0017.

• Mail: Trade and Commercial Regulations Branch, Office of Trade, U.S. Customs and Border Protection, 90 K Street NE, 10th Floor, Washington, DC 20229-1177.

Instructions: All submissions received must include the agency name and docket number for this Request for Information. All comments received by mail will be posted without change to https://www.regulations.gov, including any personal information provided. For detailed instructions on submitting comments and additional information on the rulemaking process, see the Public Participation heading of the SUPPLEMENTARY INFORMATION section of this document.

Docket: For access to the docket to read background documents or comments received, go to https://www.regulations.gov. Due to the relevant COVID-19-related restrictions, CBP has temporarily suspended on-site public inspections of the public comments.

FOR FURTHER INFORMATION CONTACT: Marty Chavers, Deputy Executive Director, Office of Policy, U.S. Customs and Border Protection, (202) 325-1395, or CBP-PUBLIC-RFI-QUESTIONS@cbp.dhs.gov.

SUPPLEMENTARY INFORMATION:

I. Public Participation

Interested persons are invited to comment on this notice by submitting written data, views, or arguments using a method identified in the ADDRESSES section.

Instructions: All submissions must include the agency name and docket number for this notice. Comments that will provide the most assistance to U.S. Custom and Border Protection (CBP) will reference the specific portion of the Request for Information (RFI) that is being addressed, explain the reason(s) for any recommended changes to CBP processes, programs, regulations, collections of information, and policies, and include data, information, or authorities that support any recommended changes.

All comments received will be posted without change to https://www.regulations.gov. Commenters are encouraged to identify, by number, the specific question or questions to which they are responding.

Docket: For access to the docket to read comments, go to https://www.regulations.gov.

II. Background

On January 20, 2021, the President issued Executive Order 13985, “Advancing Racial Equity and Support for Underserved Communities Through the Federal Government” (E.O. 13985),¹ designed to pursue a comprehensive approach to advancing equity for all, including people of color and others who have been historically underserved, marginalized, and adversely affected by persistent poverty and inequality. E.O. 13985 defines “equity” as “the consistent and systemic fair, just, and impartial treatment of all individuals, including individuals who belong to underserved communities that have been denied such treatment, such as: Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.” E.O. 13985 further defines “underserved communities” as “populations sharing a particular characteristic, as well as geographic communities, that have been systematically denied a full opportunity to participate in aspects of economic, social, and civic life, as exemplified by the list in the . . . definition of `equity.' ”

¹ 86 FR 7009 (Jan. 25, 2021).

E.O. 13985 requires each agency to assess whether, and to what extent, its programs and policies perpetuate systemic barriers to opportunities and benefits for people of color and other underserved groups with the goal of developing policies and programs that deliver resources and benefits equitably to all. This executive order requires agencies to consult with members of communities that have been historically underrepresented in the Federal Government and underserved by, or subject to discrimination in, Federal policies and programs.

Also on January 20, 2021, the President issued Executive Order 13990 “Protecting Public Health and the Environment and Restoring Science to Tackle the Climate Crisis” (E.O. 13990).² This executive order requires agencies to review and take action to address the promulgation of Federal regulations and other actions in conflict with the objectives of improving public health and protecting the environment by, among other things, bolstering resilience to the effects of climate change. In taking these actions, agencies were directed to seek input from the public and stakeholders, including State, local, Tribal, and territorial officials, scientists, labor unions, environmental advocates, and environmental justice groups.

² 86 FR 7037 (Jan. 25, 2021).

Subsequently, on January 27, 2021, the President issued Executive Order 14008 “Tackling the Climate Crisis at Home and Abroad” (E.O. 14008).³ This executive order directs agencies to move quickly to build resilience, at home and abroad, against effects of climate change and to prioritize action on climate change in policymaking. This executive order specifically directs the Secretary of Homeland Security to consider the implications of climate change to the Arctic, along our Nation's borders, and to National Critical Functions, including any relevant information from the Climate Risk Analysis, in developing strategy, planning and programming. Additionally, the executive order directs agencies that engage in extensive international work to develop strategies and plans for integrating climate considerations into their international work, as appropriate and consistent with applicable law. To facilitate these actions, agencies are required to engage with State, local, Tribal, and territorial governments; workers and communities; and leaders across all sectors of our economy.

³ 86 FR 7619 (Feb. 1, 2021).

These executive orders are consistent with the mandates found in other executive orders such as Executive Order 13563 (January 18, 2011), “Improving Regulation and Regulatory Review,” which directs agencies to “identify the best, most innovative, and least burdensome tools for achieving regulatory ends.” ⁴ Executive Order 13563 is affirmed in the President's Memorandum of January 20, 2021, Modernizing Regulatory Review.⁵ Further, Executive Order 13707 (September 15, 2015), “Using Behavioral Insights to Better Serve the American People,” directs agencies to design “programs and policies to reflect our best understanding of how people engage with, participate in, use, and respond to those policies and programs.” ⁶ Executive Order 13707 is affirmed in the President's Memorandum of January 27, 2021, Restoring Trust in Government through Scientific Integrity and Evidence-Based Policymaking.⁷

⁴ 76 FR 3821 (Jan. 21, 2011).

⁵ 86 FR 7223 (Jan. 26, 2021).

⁶ 80 FR 56365 (Sep. 18, 2015).

⁷ 86 FR 8845 (Feb. 10, 2021).

Pursuant to these executive orders and presidential memoranda, CBP is issuing this RFI to gather information on the extent to which the existing agency processes, programs, regulations, collections of information, and policies under the authority of title 19 of the CFR, chapter I: (1) Perpetuate systemic barriers to opportunities and benefits for people of color and other underserved groups; (2) do not bolster resilience to the effects of climate change; and (3) address the disproportionately high and adverse climate-related effects on disadvantaged communities. Among other things, CBP seeks concrete information about unnecessary or unjustified administrative burdens that may create systemic barriers to the importation of merchandise into the United States.

It is important to note that CBP continually evaluates its programs and policies, as well as its regulatory framework, for rules that are candidates for modification, streamlining, expansion, or repeal. CBP does so through legally mandated review requirements (e.g., Unified Agenda reviews, 5 U.S.C. 601, et seq., and reviews under section 610 of the Regulatory Flexibility Act, 5 U.S.C. 610) and through other informal and long-established mechanisms (e.g., use of Federal Advisory Committees such as the Commercial Customs Operations Advisory Committee (COAC), feedback from CBP field personnel, input from internal working groups, and outreach to regulated entities and the public). This Federal Register notice supplements these existing, extensive CBP regulatory and program review efforts.

III. CBP's Operational Programs

CBP operates in 106 countries; serves at 328 ports of entry within the United States; safeguards roughly 7,000 miles of land border and 95,000 miles of shoreline; and patrols the associated air and maritime spaces. On a typical day in fiscal year (FY) 2021, CBP: Welcomed into the United States 121,516 incoming international air passengers and crew; 8,094 passengers arriving on ships/boats; 362,078 incoming land travelers; stopped more than 264 pests at U.S. ports of entry and quarantined 2,548 materials, including plant, meat, animal byproduct, and soil; and seized 4,732 pounds of drugs, approximately $342,000 of illicit currency, and approximately $9,000,000 worth of merchandise that was in violation of the Intellectual Property Rights laws.⁸ As part of its law enforcement function, on a typical day in FY 2021, CBP conducted 1,703 apprehensions between U.S. ports of entry; 25 arrests of wanted criminals at U.S. ports of entry; and 723 refusals of inadmissible persons at U.S. ports of entry.⁹ As part of its trade enforcement and revenue protection responsibilities, on a typical day in FY 2021, CBP collected approximately $256 million in duties, taxes, and other fees, including approximately $234 million in duties.¹⁰

⁸ https://www.cbp.gov/newsroom/stats/typical-day-fy2021 (describing CBP's typical activities on an average day from October 1, 2020 through September 30, 2021, including those conducted during the COVID-19 pandemic, as compiled and reported by CBP on January 3, 2022).

⁹ Id.

¹⁰ Id.

CBP's mission is to protect the American people, safeguard our borders, and enhance the Nation's economic prosperity. As a part of CBP's law enforcement mission, and in order to protect the American people and safeguard our borders, it is CBP's policy to prohibit the consideration of race or ethnicity in law enforcement, investigation, and screening activities, in all but the most exceptional circumstances.¹¹ To enhance the Nation's economic mission, CBP continuously works to develop legal and operational changes that embrace 21st Century processes and emerging technologies to better secure national and economic security, enhance data integrity, account for emerging actors and business practices, and better facilitate trade by reducing financial and administrative burdens and constraints in customs transactions.

¹¹ https://www.cbp.gov/about/eeo-diversity/policies/nondiscrimination-law-enforcement-activities-and-all-other-administered (describing CBP Policy on Nondiscrimination in Law Enforcement Activities and all other Administered Programs).

CBP's core values are vigilance, service to country, and integrity. CBP's vision is to enhance the Nation's security through innovation, intelligence, collaboration and trust.¹² The agency carries out its trade mission under the authority of title 19 of the CFR, Chapter I ¹³ through the Air and Marine Operations (AMO), United States Border Patrol (BP), Office of Field Operations (OFO), the Office of Trade (OT), multiple program offices, and ten regional offices located throughout the United States.¹⁴

¹² https://www.cbp.gov/about.

¹³ CBP's immigration authority can be found in title 8 of the CFR, Chapter I.

¹⁴ About CBP | U.S. Customs and Border Protection.

Of CBP's four operational offices (AMO, BP, OFO, and OT), AMO applies advanced aeronautical and maritime capabilities and employs its unique skill sets to preserve America's security interests. With 1,800 Federal agents and mission support personnel, 240 aircraft and 300 marine vessels operating throughout the United States, Puerto Rico, and the U.S. Virgin Islands, AMO uses its sophisticated fleets to detect, sort, intercept, track and apprehend criminals in diverse environments at and beyond U.S. borders. AMO program offices include Operations, Mission Support, National Air Security Operations, and Training and Safety Standards.

BP is the primary Federal law enforcement organization responsible for preventing terrorists and their weapons from entering the United States between official CBP ports of entry. BP is also responsible for preventing the illicit trafficking of people and contraband between the official ports of entry. BP, which has a work force of more than 20,000 agents and 2,000 mission support personnel, is specifically responsible for patrolling the 6,000 miles of Mexican and Canadian international land borders and 2,000 miles of coastal waters surrounding the Florida Peninsula and the island of Puerto Rico. Agents work around the clock on assignments, in all types of terrain and weather conditions. Agents also work in many isolated communities throughout the United States.

OFO was built upon the legacy U.S. Customs Service and traces its history back to when the agency was established on July 31, 1789. On March 1, 2003, a majority of employees from the legacy U.S. Customs Service were transitioned into CBP under DHS. The merger also included and incorporated the separate border inspection functions of the Department of Agriculture and the former Immigration and Naturalization Service into CBP's OFO. Today, OFO has more than 32,000 employees, uniformed and non-uniformed, located throughout the United States and around the world. By guarding America's borders, welcoming lawful visitors, and facilitating legitimate trade, OFO plays a vital role in protecting our national security and ensuring our economic prosperity. OFO is comprised of the following program offices: Admissibility and Passenger Programs; Agriculture Programs and Trade Liaison; Cargo and Conveyance Security; Mission Support; National Targeting Center; Operations; and Planning, Program Analysis and Evaluation.

OFO also houses the 10 CBP Centers of Excellence and Expertise (Centers): (1) Agriculture and Prepared Products; (2) Apparel, Footwear and Textiles; (3) Automotive and Aerospace; (4) Base Metals; (5) Consumer Products and Mass Merchandising; (6) Electronics; (7) Industrial and Manufacturing Materials; (8) Machinery; (9) Petroleum, Natural Gas and Minerals; and (10) Pharmaceuticals, Health and Chemicals.¹⁵ The Centers are responsible for performing certain trade functions and making certain determinations as set forth in particular regulatory provisions regarding importations by importers who are considered by CBP to be in the industry sector, regardless of the ports of entry at which the importations occur. Industry sectors are categorized by the Harmonized Tariff Schedule of the United States (HTSUS) numbers representing an industry sector.¹⁶

¹⁵ https://www.cbp.gov/trade/centers-excellence-and-expertise-information/cee-directory.

¹⁶ 19 CFR 101.10.

OT consolidates the trade policy, program development, and compliance measurement functions of CBP into one office and provides uniformity and clarity for the development of CBP's national strategy to facilitate legitimate trade. OT manages the design and implementation of results-driven strategic initiatives for trade compliance and enforcement. OT also directs national enforcement responses through effective targeting of goods crossing the border as well as strict, swift punitive actions against companies participating in predatory trade practices. Through coordination with international partners and other U.S. government agencies, OT directs the enforcement of intellectual property rights, the identification of risks to detect and prevent the importation of contaminated agricultural or food products, and the enforcement of trade agreements.

By promoting trade facilitation through partnership programs, OT streamlines the flow of legitimate shipments and fosters corporate self-governance as a means of achieving compliance with trade laws and regulations. OT's risk-based audit program is used to respond to allegations of commercial fraud and to conduct corporate reviews of internal controls to ensure importers comply with trade laws and regulations. OT provides the legal tools to promote trade facilitation and compliance with customs, trade and border security requirements through the issuance of all CBP regulations, legally binding advance rulings and administrative decisions, informed compliance publications (ICPs) and structured programs for external CBP training, and outreach on international trade laws and CBP regulations.

OT is comprised of the following Directorates that interact with the public: Operations, Regulations and Rulings, Trade Remedy Law Enforcement, Trade Policy and Programs, Trade Transformation Office, and Regulatory Audit and Agency Advisory Services. OT directs the development and implementation of matters relating to CBP's Priority Trade Initiatives (PTIs), which include: (1) Agriculture and Quota; (2) Antidumping and Countervailing Duty (AD/CVD); (3) Import Safety; (4) Intellectual Property Rights; (5) Revenue; (6) Textiles/Wearing Apparel; and (7) Trade Agreements.¹⁷ In addition to the PTIs, OT is responsible for the Single Window (e.g., the Automated Commercial Environment), audit programs, and the development of CBP's vision under the 21st Century Customs Framework. Additionally, OT has a legal responsibility to issue administrative rulings in response to requests from the trade community; to respond to petitions for relief from the seizure and forfeiture of merchandise and the assessment of civil penalties; ¹⁸ to inform the public about CBP trade policies through ICPs; ¹⁹ to ensure that its rulings are made publicly available through the Customs Rulings Online Search System (CROSS); ²⁰ and to maintain a public directory of recorded trademarks and copyrights that receive border enforcement through CBP's e-Recordation program.²¹

¹⁷ https://www.cbp.gov/trade/priority-issues.

¹⁸ https://www.cbp.gov/trade/programs-administration/penalties.

¹⁹ https://www.cbp.gov/trade/rulings/informed-compliance-publications.

²⁰ https://rulings.cbp.gov/home.

²¹ https://iprr.cbp.gov/; https://iprs.cbp.gov/; https://www.cbp.gov/trade/priority-issues/ipr/protection.

There are two offices that provide essential support to CBP's operational offices, which are described above. The first is the Office of Operations Support, which includes the Laboratories and Scientific Services Directorate, Office of Intelligence, Office of International Affairs, CBP Watch, Planning, Analysis, and Requirements Evaluation Directorate, Law Enforcement Safety and Compliance Directorate, Mission Support Division, and Office of the Chief Medical Officer. The second is Enterprise Services (ES). The offices under ES, including Accountability, Acquisition, Facilities and Asset Management, Human Resources Management, Information and Technology, Programming, and Training and Development, provide key support for both CBP's frontline operators and non-frontline entities.

CBP seeks specific input from the public regarding the processes, programs, regulations, collections of information, and policies implemented by its operational and support offices under the authorities specified in title 19 of the CFR, chapter I. CBP is seeking information and input from the public regarding these key programs and the related regulations and policies as part of the agency's efforts to ensure that it is operating its programs in compliance with the executive orders detailed above.

IV. Public Participation

A. Importance of Public Feedback

A central tenet of each of the executive orders discussed above is the critical and essential role of public input in driving and focusing CBP review of its existing processes, programs, regulations, collections of information, and policies. Because the effects of Federal regulations and policies tend to be widely dispersed in society, members of the public are likely to have useful information, data, and perspectives on the benefits and burdens of CBP's existing processes, programs, regulations, information collections, and policies. Given the importance of public input, CBP is seeking specific public feedback to facilitate these program reviews in the context of equity for all, including those in underserved communities, bolstering resilience to the effects of climate change, particularly for those disproportionately affected by climate change, and that advance and prioritize environmental justice. This is especially of concern in these times of racial unrest and uncertainty, and in this period in which disasters of many kinds have become more common, and where science has been called into question as a reliable factor upon which to base our decisions. It is essential to reevaluate CBP's programs to reduce unnecessary barriers to participation and effectiveness, and to serve all communities, to increase equity.

B. Maximizing the Value of Public Feedback

This notice contains a list of questions, the answers to which will assist CBP in identifying those processes, programs, regulations, collections of information, and policies under its title 19 of the CFR, chapter I authorities that may benefit from modification, streamlining, expansion, or repeal in light of the executive orders. CBP encourages public comment on these questions and seeks any other data that commenters believe are relevant to CBP's efforts to review whether CBP policies and actions: (1) Create or exacerbate barriers to full and equal participation by all eligible individuals; (2) rely upon science to ensure access to clean air and water; limit exposure to dangerous chemicals and pesticides; hold polluters accountable; reduce greenhouse emissions; hinder or bolster resilience to the impacts of climate change; restore and expand our national treasures and monuments, and prioritize both environmental justice and the creation of well-paying union jobs to deliver on these goals; and (3) factor the effects of climate change in the Arctic, along our Nation's borders, and to National critical functions—including climate risks.

The type of feedback that is most useful to the agency includes feedback that identifies specific processes, programs, regulations, information collections, and/or policies that could benefit from reform; feedback that refers to specific barriers to participation; feedback about how to improve risk perception; feedback that offers actionable data; and feedback that specifies viable alternatives to existing approaches that meet statutory obligations. For example, feedback that simply states that a stakeholder feels strongly that CBP should change a regulation, but does not contain specific information on how the proposed change would affect the costs and benefits of the regulation, is much less useful to CBP. CBP is looking for new information and new data to support any proposed changes that further the goals of advancing equity for all, including those in underserved communities, protecting public health and the environment, restoring science, and bolstering resilience from the effects of climate change, particularly for those disproportionately affected by climate change, and advancing and prioritizing environmental justice.

Highlighted below are a few of those points, noting comments that are most useful to CBP, guided by corresponding principles. Commenters should consider these principles as they answer and respond to the questions in this notice.

• Commenters should identify, with specificity, the program, regulation, information collection, and/or policy at issue, providing the applicable Code of Federal Regulation (CFR) citation where appropriate.

• Commenters should identify, with specificity, administrative burdens, program requirements, information collection burdens, waiting time, or unnecessary complexity that may impose unjustified barriers in general, or that may have adverse effects on equity for all, including individuals who belong to underserved communities that have been denied equitable treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

• Commenters should identify, with specificity, small or large reforms that might be justified in light of the risks posed by climate change, whether those reforms involve preparedness, mitigation, or other steps to reduce suffering.

• Commenters should provide specific data that document the costs, burdens, and benefits of existing requirements to the extent they are available. Commenters might also address how CBP can best obtain and consider accurate, objective information and data about the costs, burdens, and benefits of existing programs and regulations and whether there are existing sources of data that CBP can use to evaluate the post-promulgation effects of its regulations over time as they affect advancing equity for all, including those in underserved communities, protecting public health and the environment, restoring science, and bolstering resilience from the effects of climate change, particularly for those disproportionately affected by climate change and environmental justice.

• Particularly where comments relate to a program's costs or benefits, comments will be most useful if there are data and experience under the program available to ascertain the program's actual effect on the goals of advancing equity for all, including those in underserved communities, protecting public health and the environment, restoring science, and bolstering resilience from the effects of climate change, particularly for those disproportionately affected by climate change, and promoting and protecting our public health and the environment by advancing and prioritizing environmental justice.

C. List of Questions for Commenters

The below non-exhaustive list of questions is meant to assist members of the public in the formulation of comments regarding whether CBP's policies and actions advance equity for all, including those in underserved communities; protect public health and the environment; restore science; and bolster resilience from the effects of climate change, particularly for those disproportionately affected by climate change; and promoting and protecting our public health and the environment by advancing and prioritizing environmental justice. This list is not intended to restrict the issues that commenters may address. CBP compiled a list of specific questions that may be answered as if applicable to any of CBP's programs under its title 19 of the CFR, chapter I authorities.

Specific Questions

(1) Are there CBP processes, programs, regulations, information collections, forms, required documentation, guidance and/or policies that perpetuate systemic barriers to opportunities and benefits for people of color and/or other underserved groups as defined in Executive Order 13985 and, if so, what are they? How can those programs, regulations, and/or policies be modified, expanded, streamlined, or repealed to deliver resources and benefits more equitably?

(2) Are there CBP processes, programs, regulations, information collections, forms, required documentation, guidance and/or policies that hinder or do not bolster resilience to the effects of climate change, particularly for those disproportionately affected by climate change, and, if so, what are they? How can those programs, regulations, and/or policies be modified, expanded, streamlined, or repealed to bolster resilience to the effects of climate change?

(3) Are there CBP processes, programs, regulations, information collections, forms, required documentation, guidance and/or policies that do not promote environmental justice? How can those programs, regulations, and/or policies be modified, expanded, streamlined, or repealed to promote environmental justice?

(4) Are there CBP processes, programs, regulations, information collections, forms, required documentation, guidance and/or policies that are unnecessarily complicated or that could be streamlined to achieve the objectives of equity for all, including people of color and others who have been historically underserved, marginalized, and adversely affected by persistent poverty and inequality, so as to bolster resilience to climate change and/or address the disproportionately high and adverse climate change-related effects on disadvantaged communities in more efficient ways? If so, what are they and how can they be made less complicated and/or streamlined?

(5) Are there any CBP regulations and/or policies that create duplication, overlap, complexity, or inconsistent requirements within CBP programs, other DHS components, or any other Federal Government agencies that affect equity, resilience to the effects of climate change, and/or environmental justice? If so, what are they and how can they be improved or updated to meet the required objectives of racial equity, resiliency, and environmental justice?

(6) Are there existing sources of data that CBP can use to evaluate the post-promulgation effects of regulations over time? Or are there sources of data that CBP can use to evaluate the effects of CBP policies or regulations on equity for all, including individuals who belong to underserved communities?

(7) What successful approaches to advance equity and climate resilience have been taken by State, local, Tribal, and territorial governments, and in what ways do CBP's programs present barriers or opportunities to successful implementation of these approaches?

CBP notes that this RFI is solely for information and program-planning purposes. While CBP intends to fully consider all input received from the public in response to this RFI, CBP will not respond individually to comments and none of the comments submitted will bind CBP to take any specific actions.

Chris Magnus, Commissioner, having reviewed and approved this document, is delegating the authority to electronically sign this document to Robert F. Altneu, who is the Director of the Regulations and Disclosure Law Division for CBP, for purposes of publication in the Federal Register.

Dated: April 19, 2022.
Robert F. Altneu,
Director, Regulations & Disclosure Law Division, Regulations & Rulings, Office of Trade, U.S. Customs and Border Protection.

[FR Doc. 2022-08664 Filed 4-21-22; 8:45 am]

BILLING CODE 9111-14-P